DEPARTMENT OF THE INTERIOR

Bureau of Land Management

[UT-910-04-1040-PH-24-1A]

Notice of Resource Advisory Council Meeting

AGENCY: Bureau of Land Management, Department of Interior.

ACTION: Notice of Utah Resource Advisory Council (RAC) meeting.

SUMMARY: In accordance with the Federal Land Policy and Management Act (FLPMA) and the Federal Advisory Committee Act of 1972 (FACA), the U.S. Department of the Interior, Bureau of Land Management (BLM) Utah Resource Advisory Council (RAC) will meet as indicated below.

DATES: The Utah Resource Advisory Council will meet October 20, 2004, at the Provo Marriott Hotel, 10 West 100 North, Provo, Utah, beginning at 8 a.m. and concluding at 5 p.m. A public comment period will begin at 4 p.m. and conclude at 4:30 p.m. Written comments may be sent to the Bureau of Land Management address listed below.

FOR FURTHER INFORMATION: Contact Sherry Foot, Special Programs Coordinator, Utah State Office, Bureau of Land Management, 324 South State Street, Salt Lake City, Utah, 84111; phone (801) 539-4195.

SUPPLEMENTARY INFORMATION: Welcome and introductions of the new Council members and election of officers will take place along with a presentation on the wild horse and burro program, briefings on the St. George OHV Route Designation RMP amendment, Sagebrush Restoration Initiative, Price's RMP Route Designation Plan, as well as, an overview of BLM issues in Utah.

All meetings are open to the public; however, transportation, lodging, and meals are the responsibility of the participating public.

Dated: September 30, 2004.
Sally Wisely,
State Director.

[FR Doc. 04-22737 Filed 10-7-04; 8:45 am]

BILLING CODE 4310-$$-P